CONSUMER PRODUCT SAFETY COMMISSION

16 CFR Part 1225

Safety Standard for Hand-Held Infant Carriers

CFR Correction

This rule is being published by the Office of the Federal Register to correct an editorial or technical error that appeared in the most recent annual revision of the Code of Federal Regulations.

In Title 16 of the Code of Federal Regulations, Part 1000 to End, revised as of January 1, 2022, in § 1225.2, add “email: cpsc-os@cpsc.gov,” in the fifth sentence after the telephone number “301-504-7479”.

[FR Doc. 2022-11615 Filed 5-31-22; 8:45 am]

BILLING CODE 0099-10-P